DEPARTMENT OF HEALTH AND HUMAN SERVICES

Meeting of the National Biodefense Science Board

AGENCY: Department of Health and Human Services, Office of the Secretary.

ACTION: Notice.

SUMMARY: As stipulated by the Federal Advisory Committee Act, the Department of Health and Human Services is hereby giving notice that the National Biodefense Science Board (NBSB) will be holding a meeting. The meeting is open to the public.

DATES: The meeting will be held on June 18, 2008, from 8:30 a.m. to 5 p.m.

ADDRESSES: The Sheraton National Hotel, 900 S. Orme Street, Arlington, VA 22204. Phone: 703-521-1900.

FOR FURTHER INFORMATION, CONTACT: CAPT Leigh A. Sawyer, D.V.M., M.P.H., Executive Director, National Biodefense Science Board, Office of the Assistant Secretary for Preparedness and Response, U.S. Department of Health and Human Services, 200 Independence Ave SW., Room 638G, Washington, DC 20201; 202-205-3815; fax: 202-205-0613; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board.

The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Topics to be discussed include updates from the Pandemic Influenza Working Group, the Disaster Medicine Working Group, the Markets and Sustainability Working Group, and the U.S. Medical Countermeasure Research and Development Processes for Chemical, Biological, Radiological and Nuclear Agents Working Group. Additionally, the NBSB will discuss preparedness and planning issues related to at-risk populations and pandemic influenza , consider issues related to medical response and preparedness for radiological and nuclear events, and receive an update on the activities of the Homeland Security Presidential Directive #21, Federal Biosurveillance Working Group. The NBSB will also receive a briefing on issues related to the Department of Health and Human Services development of MedKits. This agenda is subject to change as priorities dictate. A tentative schedule will be made available on June 6, 2008 at the NBSB Web site, http://www.hhs.gov/aspr/omsph/nbsb.

Any member of the public interested in presenting oral comments at the meeting may notify the Contact person listed on this notice by June 11, 2008. Interested individuals and representatives of an organization may submit a letter of intent and a brief description of the organization represented. In addition, any interested person may file written comments with the committee. All written comments must be received prior to June 11, 2008 and should be sent by e-mail with “NBSB Public Comment” as the subject line or by regular mail to the Contact person listed above. Individuals who plan to attend and need special assistance, such as sign language interpretation or other reasonable accommodations, should notify the designated contact person.

Dated: May 30, 2008.
RADM William C. Vanderwagen,
Assistant Secretary for Preparedness and Response, U.S. Department of Health and Human Services.

[FR Doc. 08-1321 Filed 6-2-08; 2:27pm]

BILLING CODE 4150-37-P